NUCLEAR REGULATORY COMMISSION

Governors' Designees Receiving Advance Notification of Transportation of Nuclear Waste

On January 6, 1982 (47 FR 596 and 47 FR 600), the Nuclear Regulatory Commission (NRC) published in the Federal Register final amendments to 10 CFR parts 71 and 73 (effective July 6, 1982), that require advance notification to Governors or their designees by NRC licensees prior to transportation of certain shipments of nuclear waste and spent fuel. The advance notification covered in part 73 is for spent nuclear reactor fuel shipments and the notification for part 71 is for large quantity shipments of radioactive waste (and of spent nuclear reactor fuel not covered under the final amendment to 10 CFR part 73).

The following list updates the names, addresses, and telephone numbers of those individuals in each State who are responsible for receiving information on nuclear waste shipments. The list will be published annually in the Federal Register on or about June 30 to reflect any changes in information.

Individuals Receiving Advance Notification of Nuclear Waste Shipments
State | Part 71 | Part 73
Alabama | Col. James H. Alexander, Director, Alabama Department of Public Safety, PO Box 1511, Montgomery, AL 36102-1511, (334) 242-4394 | Same.
Alaska | Douglas Dasher, Alaska Department of Environmental Conservation, Northern Regional Office, 610 University Avenue, Fairbanks, AK 99709-3643, (907) 451-2172 | Same.
Arizona | Aubrey V. Godwin, Director, Arizona Radiation Regulatory Agency, 4814 South 40th Street, Phoenix, AZ 85040, (602) 255-4845, ext. 222, 24 hours: (602) 223-2212 | Same.
Arkansas | David D. Snellings, Jr., Director, Division of Radiation Control, and Emergency Management, Arkansas Department of Health, 4815 West Markham Street, Mail Slot #30, Little Rock, AR 72205-3867, (501) 661-2301, 24 hours: (501) 661-2136 | Same.
California | Captain Jim Abrames, California Highway Patrol, Enforcement Services Division, PO Box 942898, Sacramento, CA 94298-0001, (916) 445-3253 24 hours: 1-(888) 330-2015 | Same.
Colorado | Captain Allan M. Turner, Hazardous Materials Section, Colorado State Patrol, 700 Kipling Street, Suite 1000, Denver, CO 80215-5865, (303) 239-4546, 24 hours: (303) 239-4501 | Same.
Connecticut | Dr. Edward L. Wilds, Jr., Director, Division of Radiation, Department of Environmental Protection, 79 Elm Street, Hartford, CT 06106-5127, (860) 424-3029, 24 hours: (860) 424-3333 | Same.
Delaware | Brian J. Bushweller, Secretary, Department of Public Safety, PO Box 818, Dover, DE 19903, (302) 739-4321 24 hours: (pager) (302) 435-2725 | Same.
Florida | Harlan W. Keaton, Manager, Bureau of Radiation Control, Environmental Radiation Program, Department of Health, PO Box 680069, Orlando, FL 32868-0069, (407) 297-2095 | Same.
Georgia | Al Hatcher, Director, Transportation Division, Public Service Commission, 1007 Virginia Avenue, Suite 310, Hapeville, GA 30354, (404) 559-6600 | Same.
Hawaii | Mr. Gary Gill, Deputy Director for Environmental Health, State of Hawaii Department of Health, PO Box 3378, Honolulu, HI 96813, (808) 586-4424 | Same.
Idaho | Major David C. Rich, Idaho State Police, PO Box 700, Meridian, ID 83680-0700, (208) 884-7206, 24 hours: (208) 334-2900 | Same.
Illinois | Thomas W. Ortciger, Director, Illinois Department of Nuclear Safety, 1035 Outer Park Drive, 5th Floor, Springfield, IL 62704, (217) 785-9868, 24 Hours: (217) 785-9900 | Same.
Indiana | Melvin J. Carraway, Superintendent, Indiana State Police, Indiana Government Center North, 100 North Senate Avenue, Indianapolis, IN 46204, (317) 232-8248 | Same.
Iowa | Ellen M. Gordon, Administrator, Emergency Management Division, Hoover State Office Building, Des Moines, IA 50319-0113, (515) 281-3231 | Same.
Kansas | Frank H. Moussa, M.S.A., Technological Hazards Administrator, Department of the Adjutant General, Division of Emergency Management, 2800 SW. Topeka Boulevard, Topeka, KS 66611-1287, (785) 274-1409, 24 hours: (785) 296-3176 | Same.
Kentucky | John A. Volpe, Ph.D., Manager, Radiation Health and Toxic Agents Branch, Cabinet for Health Services, 275 East Main Street, Frankfort, KY 40621-0001 (502) 564-3700 | Same.
Louisiana | Major Joseph T. Booth, Louisiana State Police, 7901 Independence Boulevard, PO Box 66614 (#21), Baton Rouge, LA 70896-6614, (225) 925-6113 | Same.
Maine | Chief of the State Police, Maine Department of Public Safety, 42 State House Station, Augusta, ME 04333, (207) 624-7000 | Same.
Maryland | First Sgt. John M. Wilhelm, Maryland State Police, Communication Services Division, 1201 Reisterstown Road, Pikesville, MD 21208, (410) 653-4208 24 hours: (410) 653-4200 | Same.
Massachusetts | Robert M. Hallisey, Director, Radiation Control Program, Massachusetts Department of Public Health, 174 Portland Street, 5th Floor, Boston, MA 02114, (617) 727-6214 | Same.
Michigan | Captain John Ort, Commander, Special Operations Division, Michigan State Police, 714 South Harrison Road, East Lansing, MI 48823, (517) 336-6263, 24 hours: (517) 336-6100 | Same.
Minnesota | John R. Kerr, Assistant Director, Administration and Preparedness Branch, Department of Public Safety, Division of Emergency Management, 444 Cedar St., Suite 223, St. Paul, MN 55101-6223, (651) 296-0481, 24 hours: (651) 649-5451 | Same.
Mississippi | Robert R. Latham, Jr., Emergency Management Agency, PO Box 4501, Fondren Station, Jackson, MS 39296-4501, (601) 352-9100 | Same.
Missouri | Jerry B. Uhlmann, Director, Emergency Management Agency, PO Box 116, Jefferson City, MO 65102, (573) 526-9101, 24 hours: (573) 751-2748 | Same.
Montana | Jim Greene, Administrator, Disaster & Emergency Service, PO Box 4789, Helena, MT 59604, (406) 841-3911 | Same.
Nebraska | Major Bryan J. Tuma, Nebraska State Patrol, PO Box 94907, Lincoln, NE 68509-4907, (402) 479-4950, 24 hours: (402) 471-4545 | Same.
Nevada | Stanley R. Marshall, Supervisor, Radiological Health Section, Health Division, Department of Human Resources, 1179 Fairview Drive, Suite 102, Carson City, NV 89701-5405, (775) 687-5394 x276, 24 hours: (775) 688-2830 | Same.
New Hampshire | Richard M. Flynn, Commissioner, New Hampshire Department of Safety, James H. Hayes Building, 10 Hazen Drive, Concord, NH 03305, (603) 271-2791 (603) 271-3636 (24 hours) | Same.
New Jersey | Kent Tosch, Chief, Bureau of Nuclear Engineering, Department of Environmental Protection, PO Box 415, Trenton, NJ 08625-0415, (609) 984-7701 | Same.
New Mexico | Max D. Johnson, Bureau Chief, Technological Hazards Bureau, Department of Public Safety, PO Box 1628, Santa Fe, NM 87504-1628, (505) 476-9620, 24 hours: (505) 827-9126 | Same.
New York | Edward F. Jacoby, Jr., Director, State Emergency Management Office, 1220 Washington Avenue, Building 22—Suite 101, Albany, NY 12226-2251, (518) 457-2222 | Same.
North Carolina | Line Sgt. Mark Dalton, Hazardous Materials Coordinator, North Carolina Highway Patrol Headquarters, 4702 Mail Service Center, Raleigh, NC 27699-4702, (919) 733-5282, After hours: (919) 733-3861 | Same.
North Dakota | Jeffery L. Burgess, Director, Division of Environmental Engineering, North Dakota Department of Health, 1200 Missouri Avenue, Box 5520, Bismarck, ND 58506-5520, (701) 328-5188, After hours: (701) 328-2121 | Same.
Ohio | Carol A. O'Claire, Supervisor, Ohio Emergency Management Agency, 2855 West Dublin Granville Road, Columbus, OH 43235-2206, (614) 799-3915, 24 hours: (614) 889-7150 | Same.
Oklahoma | Bob A. Ricks, Commissioner, Oklahoma Department of Public Safety, PO Box 11415, Oklahoma City, OK 73136-0145, (405) 425-2001, 24 hours: (405) 425-2424 | Same.
Oregon | David Stewart-Smith, Energy Resources Division, Oregon Office of Energy, 625 Marion Street, NE, Suite 1, Salem, OR 97301-3742, (503) 378-6469 | Same.
Pennsylvania | John Bahnweg, Director of Operations and Training, Pennsylvania Emergency Management Agency, PO Box 3321, Harrisburg, PA 17105-3321, (717) 651-2001 | Same.
Rhode Island | William A. Maloney, Associate Administrator, Motor Carriers Section, Division of Public Utilities and Carriers, 100 Orange Street, Providence, RI 02903, (401) 222-3500; ext. 150 | Same.
South Carolina | Henry J. Porter, Assistant Director, Hazardous, Radiological and Infectious, Waste Management Division, Department of Health & Environmental Control, 2600 Bull Street, Columbia, SC 29201, (803) 896-4245, Emergency: (803) 253-6488 | Same.
South Dakota | John A. Berheim, Director, Division of Emergency Management, 500 E. Capitol Avenue, Pierre, SD 57501-5070, (605) 773-3231 | Same.
Tennessee | John D. White, Jr., Director, Emergency Management Agency, 3041 Sidco Drive, Nashville, TN 37204-1504, (615) 741-0001, After hours: (Inside TN) 1-800-262-3400, (Outside TN) 1-800-258-3300 | Same.
Texas | Richard A. Ratliff, Chief, Bureau of Radiation Control, Texas Department of Health, 1100 West 49th Street, Austin, TX 78756, (512) 834-6688 | Col. Thomas A. Davis, Director, Texas Department of Public Safety, Attn: EMS Preparedness Sec., PO Box 4087, Austin, TX 78773-0223, (512) 424-2450, (512) 424-2277 (24 hrs).
Utah | William J. Sinclair, Director, Division of Radiation Control, 168 North 1950 West, PO Box 144850, Salt Lake City, UT 84114-4850, (801) 536-4250, After hours: (801) 536-4123 | Same.
Vermont | Lieutenant Col. Thomas A. Powlovich, Director, Division of State Police, Department of Public Safety, 103 South Main Street, Waterbury, VT 05671-2101, (802) 244-7345 | Same.
Virginia | L. Ralph Jones, Jr., Director, Technological Hazards Division, Department of Emergency Services, Commonwealth of Virginia, 10501 Trade Court, Richmond, VA 23236, (804) 897-6500, ext. 6579 | Same.
Washington | Lieutenant Gail R. Otto, Washington State Patrol, PO Box 42600, Olympia, WA 98504-2600, (360) 478-4644 (ext. 103) | Same.
West Virginia | Colonel Gary L. Edgell, Superintendent, West Virginia State Police, 725 Jefferson Road, South Charleston, WV 25309, (304) 746-2111 | Same.
Wisconsin | Edward J. Gleason, Administrator, Wisconsin Division of Emergency Management, PO Box 7865, Madison, WI 53707-7865, (608) 242-3232 | Same.
Wyoming | Captain L. S. Gerard, Support Services Officer, Commercial Carrier, Wyoming Highway Patrol, 5300 Bishop Boulevard, Cheyenne, WY 82009-3340, (307) 777-4317, 24 hours: (307) 777-4317 | Same.
District of Columbia | Norma J. Stewart, Chief, Bureau of Food, Drug & Radiation Protection, Department of Health, 825 North Capitol St., NE, Room 5125, Washington, DC 20002, (202) 442-5919 | Same.
Puerto Rico | Hector Russe Martinez, Chairman, Environmental Quality Board, PO Box 11488, San Juan, PR 00910, (787) 767-8056 or, (787) 767-8181 | Same.
Guam | Jesus T. Salas, Administrator, Guam Environmental Protection Agency, PO Box 22439 GMF, Barrigada, Guam 96921, (671) 475-1658/9 | Same.
Virgin Islands | Dean C. Plaskett, Esq., Commissioner, Department of Planning and Natural Resources, Cyril E. King Airport, Terminal Building—Second Floor, St. Thomas, Virgin Islands 00802, (340) 774-3320 | Same.
American Samoa | Pati Faiai, Government Ecologist, Environmental Protection Agency, Office of the Governor, Pago Pago, American Samoa 96799, (684) 633-2304 | Same.
Commonwealth of the Northern Mariana Islands | Joaquin A. Tenorio, Ph.D., Secretary, Department of Lands and Natural Resources, Commonwealth of Northern Mariana Islands Government, Saipan, MP 96950, (670) 322-9830 or (670) 322-9834 | Same.

Questions regarding this matter should be directed to Spiros Droggitis, Office of State and Tribal Programs, U.S. Nuclear Regulatory Commission, Washington, DC 20555, (INTERNET Address: SCD@NRC.GOV) or at (301) 415-2367.

Dated at Rockville, Maryland this 16th day of June, 2000.
For the Nuclear Regulatory Commission.
Paul H. Lohaus,
Director, Office of State and Tribal Programs.

[FR Doc. 00-16443 Filed 6-29-00; 8:45 am]

BILLING CODE 7590-01-P